DEPARTMENT OF HOMELAND SECURITY

Federal Emergency Management Agency

44 CFR Part 64

[Docket ID FEMA-2008-0020; Internal Agency Docket No. FEMA-8067]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq.; unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year, on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region III
Pennsylvania:
Camp Hill, Borough of, Cumberland County | 420357 | October 20, 1972, Emerg; March 15, 1977, Reg; Date of publication in the Federal Register, Susp. | 03/16/2009 | Date of publication in the Federal Register.
Carlisle, Borough of, Cumberland County | 425382 | May 14, 1971, Emerg; September 1, 1972, Reg; Date of publication in the Federal Register, Susp. | ......*do | Do.
Dickinson, Township of, Cumberland County | 421580 | November 20, 1975, Emerg; April 20, 1979, Reg; Date of publication in the Federal Register, Susp. | ......*do | Do.
East Pennsboro, Township of, Cumberland County | 420359 | December 3, 1971, Emerg; April 15, 1977, Reg; Date of publication in the Federal Register, Susp. | ......do | Do.
Hampden, Township of, Cumberland County | 420360 | April 14, 1972, Emerg; February 15, 1978, Reg; Date of publication in the Federal Register, Susp. | ......do | Do.
Hopewell, Township of, Cumberland County | 421581 | September 8, 1982, Emerg; June 1, 1989, Reg; Date of publication in the Federal Register, Susp. | ......do | Do.
Lemoyne, Borough of, Cumberland County | 420361 | May 22, 1973, Emerg; December 4, 1979, Reg; Date of publication in the Federal Register, Susp. | ......do | Do.
Lower Allen, Township of, Cumberland County | 421016 | June 23, 1972, Emerg; September 30, 1977, Reg; Date of publication in the Federal Register, Susp. | ......do | Do.
Lower Frankford, Township of, Cumberland County | 421018 | January 16, 1974, Emerg; March 16, 1988, Reg; Date of publication in the Federal Register, Susp. | ......do | Do.
Lower Mifflin, Township of, Cumberland County | 421582 | May 23, 1977, Emerg; October 8, 1982, Reg; Date of publication in the Federal Register, Susp. | ......do | Do.
Mechanicsburg, Borough of, Cumberland County | 420362 | October 15, 1971, Emerg; January 16, 1980, Reg; Date of publication in the Federal Register, Susp. | ......do | Do.
Middlesex, Township of, Cumberland County | 420363 | January 26, 1973, Emerg; June 15, 1981, Reg; Date of publication in the Federal Register, Susp. | ......do | Do.
Monroe, Township of, Cumberland County | 420364 | February 25, 1972, Emerg; December 4, 1979, Reg; Date of publication in the Federal Register, Susp. | ......do | Do.
Mount Holly Springs, Borough of, Cumberland County | 420365 | February 25, 1972, Emerg; March 18, 1980, Reg; Date of publication in the Federal Register, Susp. | ......do | Do.
New Cumberland, Borough of, Cumberland County | 420366 | November 5, 1971, Emerg; February 16, 1977, Reg; Date of publication in the Federal Register, Susp. | ......do | Do.
Newburg, Borough of, Cumberland County | 422405 | March 10, 1976, Emerg; June 24, 1977, Reg; Date of publication in the Federal Register, Susp. | ......do | Do.
Newville, Borough of, Cumberland County | 421579 | September 21, 1976, Emerg; December 14, 1979, Reg; Date of publication in the Federal Register, Susp. | ......do | Do.
North Middleton, Township of, Cumberland County | 420367 | January 12, 1973, Emerg; April 1, 1982, Reg; Date of publication in the Federal Register, Susp. | ......do | Do.
North Newton, Township of, Cumberland County | 421583 | February 6, 1976, Emerg; September 10, 1984, Reg; Date of publication in the Federal Register, Susp. | ......do | Do.
Penn, Township of, Cumberland County | 421584 | November 25, 1975, Emerg; October 15, 1985, Reg; Date of publication in the Federal Register, Susp. | ......do | Do.
Shippensburg, Borough of, Cumberland County | 420368 | January 23, 1974, Emerg; March 15, 1979, Reg; Date of publication in the Federal Register, Susp. | ......do | Do.
Shippensburg, Township of, Cumberland County | 421585 | January 13, 1981, Emerg; November 4, 1988, Reg; Date of publication in the Federal Register, Susp. | ......do | Do.
Shiremanstown, Borough of, Cumberland County | 420369 | March 2, 1973, Emerg; January 5, 1979, Reg; Date of publication in the Federal Register, Susp. | ......do | Do.
Silver Spring, Township of, Cumberland County | 420370 | March 2, 1973, Emerg; May 2, 1983, Reg; Date of publication in the Federal Register, Susp. | ......do | Do.
South Middleton, Township of, Cumberland County | 420371 | April 19, 1973, Emerg; November 4, 1981, Reg; Date of publication in the Federal Register, Susp. | ......do | Do.
South Newton, Township of, Cumberland County | 421586 | April 25, 1977, Emerg; August 4, 1988, Reg; Date of publication in the Federal Register, Susp. | ......do | Do.
Southampton, Township of, Cumberland County | 421587 | February 1, 1977, Emerg; August 4, 1988, Reg; Date of publication in the Federal Register, Susp. | ......do | Do.
Upper Allen, Township of, Cumberland County | 420372 | December 10, 1971, Emerg; February 15, 1980, Reg; Date of publication in the Federal Register, Susp. | ......do | Do.
Upper Frankford, Township of, Cumberland County | 421588 | August 22, 1975, Emerg; April 5, 1988, Reg; Date of publication in the Federal Register, Susp. | ......do | Do.
Upper Mifflin, Township of, Cumberland County | 421589 | February 4, 1976, Emerg; November 26, 1982, Reg; Date of publication in the Federal Register, Susp. | ......do | Do.
West Pennsboro, Township of, Cumberland County | 421590 | January 14, 1976, Emerg; March 4, 1988, Reg; Date of publication in the Federal Register, Susp. | ......do | Do.
Wormleysburg, Borough of, Cumberland County | 420374 | August 18, 1972, Emerg; February 16, 1977, Reg; Date of publication in the Federal Register, Susp. | ......do | Do.
Virginia:
Accomack County, Unincorporated Areas | 510001 | January 10, 1974, Emerg; June 1, 1984, Reg; Date of publication in the Federal Register, Susp. | ......do | Do.
Belle Haven, Town of, Accomack County | 510242 | Emerg; February 8, 2001, Reg; Date of publication in the Federal Register, Susp. | ......do | Do.
Charles City County, Unincorporated Areas | 510198 | October 20, 1975, Emerg; September 5, 1990, Reg; Date of publication in the Federal Register, Susp. | ......do | Do.
Chincoteague, Town of, Accomack County | 510002 | March 4, 1974, Emerg; March 1, 1977, Reg; Date of publication in the Federal Register, Susp. | ......do | Do.
Essex County, Unincorporated Areas | 510048 | March 15, 1974, Emerg; December 16, 1988, Reg; Date of publication in the Federal Register, Susp. | ......do | Do.
King George County, Unincorporated Areas | 510312 | May 16, 1975, Emerg; December 15, 1990, Reg; Date of publication in the Federal Register, Susp. | ......do | Do.
Onancock, Town of, Accomack County | 510298 | February 17, 1976, Emerg; December 15, 1981, Reg; Date of publication in the Federal Register, Susp. | ......do | Do.
Saxis, Town of, Accomack County | 510003 | March 11, 1976, Emerg; November 17, 1982, Reg; Date of publication in the Federal Register, Susp. | ......do | Do.
Tangier, Town of, Accomack County | 510004 | March 28, 1975, Emerg; October 15, 1982, Reg; Date of publication in the Federal Register, Susp. | ......do | Do.
Tappahanock, Town of, Essex County | 510049 | June 3, 1974, Emerg; August 4, 1987, Reg; Date of publication in the Federal Register, Susp. | ......do | Do.
Wachapreague, Town of, Accomack County | 510005 | January 28, 1975, Emerg; September 2, 1982, Reg; Date of publication in the Federal Register, Susp. | ......do | Do.
Region IV
Alabama:
Chilton County, Unincorporated Areas | 010030 | Emerg; February 7, 2006, Reg; Date of publication in the Federal Register, Susp. | ......do | Do.
Clanton, City of, Chilton County | 010031 | August 7, 1975, Emerg; May 1, 1984, Reg; Date of publication in the Federal Register, Susp. | ......do | Do.
Maplesville, Town of, Chilton County | 010032 | September 16, 1975, Emerg; February 1, 1984, Reg; Date of publication in the Federal Register, Susp. | ......do | Do.
Thorsby, Town of, Chilton County | 010344 | Emerg; November 28, 1997, Reg; Date of publication in the Federal Register, Susp. | ......do | Do.
Georgia:
Darien, City of, McIntosh County | 130131 | April 24, 1975, Emerg; July 2, 1981, Reg; Date of publication in the Federal Register, Susp. | ......do | Do.
McIntosh County, Unincorporated Areas | 130130 | December 16, 1975, Emerg; May 15, 1984, Reg; Date of publication in the Federal Register, Susp. | ......do | Do.
Kentucky: Booneville, City of, Owsley County | 210187 | July 24, 1984, Emerg; August 5, 1985, Reg; Date of publication in the Federal Register, Susp. | ......do | Do.
Mississippi:
Gautier, City of, Jackson County | 280332 | November 13, 1986, Emerg; November 13, 1986, Reg; Date of publication in the Federal Register, Susp. | ......do | Do.
Jackson County, Unincorporated Areas | 285256 | June 30, 1970, Emerg; April 3, 1978, Reg; Date of publication in the Federal Register, Susp. | ......do | Do.
Moss Point, City of, Jackson County | 285258 | September 11, 1970, Emerg; September 18, 1970, Reg; Date of publication in the Federal Register, Susp. | ......do | Do.
Ocean Springs, City of, Jackson County | 285259 | August 14, 1970, Emerg; September 18, 1970, Reg; Date of publication in the Federal Register, Susp. | ......do | Do.
Pascagoula, City of, Jackson County | 285260 | July 17, 1970, Emerg; September 18, 1970, Reg; Date of publication in the Federal Register, Susp. | ......do | Do.
North Carolina:
Clemmons, Village of, Forsyth County | 370531 | Emerg;—June 27, 2000, Reg; Date of publication in the Federal Register, Susp. | ......do | Do.
Davidson County, Unincorporated Areas | 370307 | July 23, 1976, Emerg; May 1, 1980, Reg; Date of publication in the Federal Register, Susp. | ......do | Do.
Davie County, Unincorporated Areas | 370308 | December 23, 1975, Emerg; March 21, 1980, Reg; Date of publication in the Federal Register, Susp. | ......do | Do.
Forsyth County, Unincorporated Areas | 375349 | March 19, 1971, Emerg; September 1, 1972, Reg; Date of publication in the Federal Register, Susp. | ......do | Do.
High Point, City of, Guilford County | 370113 | August 5, 1974, Emerg; November 1, 1979, Reg; Date of publication in the Federal Register, Susp. | ......do | Do.
Lexington, City of, Davidson County | 370081 | July 10, 1975, Emerg; November 1, 1979, Reg; Date of publication in the Federal Register, Susp. | ......do | Do.
Thomasville, City of, Davidson County | 370082 | December 3, 1974, Emerg; September 28, 1979, Reg; Date of publication in the Federal Register, Susp. | ......do | Do.
Winston-Salem, City of, Forsyth County | 375360 | March 19, 1971, Emerg; August 31, 1973, Reg; Date of publication in the Federal Register, Susp. | ......do | Do.
Region V
Wisconsin:
Baldwin, Village of, St. Croix County | 550380 | June 26, 1975, Emerg; August 15, 1990, Reg; Date of publication in the Federal Register, Susp. | ......do | Do.
Glenwood City, City of, St. Croix County | 550381 | July 1, 1975, Emerg; September 4, 1986, Reg; Date of publication in the Federal Register, Susp. | ......do | Do.
Hammond, Village of, St. Croix County | 550382 | October 23, 1975, Emerg; July 16, 1987, Reg; Date of publication in the Federal Register, Susp. | ......do | Do.
Hudson, City of, St. Croix County | 555558 | April 23, 1971, Emerg; November 10, 1972, Reg; Date of publication in the Federal Register, Susp. | ......do | Do.
New Richmond, City of, St. Croix County | 550384 | June 5, 1974, Emerg; July 16, 2004, Reg; Date of publication in the Federal Register, Susp. | ......do | Do.
North Hudson, Village of, St. Croix County | 555568 | September 10, 1971, Emerg; January 12, 1973, Reg; Date of publication in the Federal Register, Susp. | ......do | Do.
River Falls, City of, St. Croix County | 550330 | March 30, 1972, Emerg; December 15, 1982, Reg; Date of publication in the Federal Register, Susp. | ......do | Do.
Somerset, Village of, St. Croix County | 550386 | April 16, 1975, Emerg; June 1, 1987, Reg; Date of publication in the Federal Register, Susp. | ......do | Do.
Spring Valley, Village of, St. Croix County | 550331 | July 2, 1975, Emerg; March 15, 1984, Reg; Date of publication in the Federal Register, Susp. | ......do | Do.
St. Croix County, Unincorporated Areas | 555578 | April 2, 1971, Emerg; April 27, 1973, Reg; Date of publication in the Federal Register, Susp. | ......do | Do.
Wilson, Village of, St. Croix County | 550389 | June 15, 1976, Emerg; May 1, 1987, Reg; Date of publication in the Federal Register, Susp. | ......do | Do.
Woodville, Village of, St. Croix County | 550390 | August 15, 1975, Emerg; May 4, 1989, Reg; Date of publication in the Federal Register, Susp. | ......do | Do.
Region VI
Arkansas:
Alma, City of, Crawford County | 050236 | March 25, 1974, Emerg; April 1, 1981, Reg; Date of publication in the Federal Register, Susp. | ......do | Do.
Altheimer, City of, Jefferson County | 050107 | September 16, 1975, Emerg; August 15, 1980, Reg; Date of publication in the Federal Register, Susp. | ......do | Do.
Cedarville, City of, Crawford County | 050505 | Emerg; June 26, 2006, Reg; Date of publication in the Federal Register, Susp. | ......do | Do.
Chester, Town of, Crawford County | 050050 | May 18, 1990, Emerg; August 5, 1991, Reg; Date of publication in the Federal Register, Susp. | ......do | Do.
Crawford County, Unincorporated Areas | 050428 | June 29, 1990, Emerg; August 5, 1991, Reg; Date of publication in the Federal Register, Susp. | ......do | Do.
Dyer, Town of, Crawford County | 050408 | Emerg; January 30, 2004, Reg; Date of publication in the Federal Register, Susp. | ......do | Do.
Humphrey, City of, Jefferson County | 050108 | July 31, 1975, Emerg; November 1, 1985, Reg; Date of publication in the Federal Register, Susp. | ......do | Do.
Jefferson County, Unincorporated Areas | 050440 | September 6, 1978, Emerg; April 16, 1991, Reg; Date of publication in the Federal Register, Susp. | ......do | Do.
Kibler, City of, Crawford County | 050337 | Emerg; November 30, 2006, Reg; Date of publication in the Federal Register, Susp. | ......do | Do.
Mountainburg, City of, Crawford County | 050051 | April 15, 1981, Emerg; April 15, 1981, Reg; Date of publication in the Federal Register, Susp. | ......do | Do.
Mulberry, City of, Crawford County | 050354 | May 27, 1981, Emerg; May 27, 1981, Reg; Date of publication in the Federal Register, Susp. | ......do | Do.
Pine Bluff, City of, Jefferson County | 050109 | August 13, 1974, Emerg; July 16, 1981, Reg; Date of publication in the Federal Register, Susp. | ......do | Do.
Redfield, City of, Jefferson County | 050282 | April 13, 1976, Emerg; August 26, 1977, Reg; Date of publication in the Federal Register, Susp. | ......do | Do.
Rudy, City of, Crawford County | 050052 | April 14, 1975, Emerg; June 25, 1976, Reg; Date of publication in the Federal Register, Susp. | ......do | Do.
Sherrill, Town of, Jefferson County | 050110 | June 19, 1975, Emerg; June 30, 1976, Reg; Date of publication in the Federal Register, Susp. | ......do | Do.
Van Buren, City of, Crawford County | 050053 | January 16, 1974, Emerg; November 16, 1977, Reg; Date of publication in the Federal Register, Susp. | ......do | Do.
Wabbaseka, City of, Jefferson County | 050111 | June 26, 1975, Emerg; December 2, 1980, Reg; Date of publication in the Federal Register, Susp. | ......do | Do.
White Hall, City of, Jefferson County | 050375 | August 11, 1975, Emerg; September 16, 1988, Reg; Date of publication in the Federal Register, Susp. | ......do | Do.
* do=Ditto.
Code for reading third column: Emerg. —Emergency; Reg. —Regular; Susp. —Suspension.

Dated: March 11, 2009.
Michael K. Buckley,
Acting Assistant Administrator, Mitigation Directorate, Department of Homeland Security, Federal Emergency Management Agency.

[FR Doc. E9-6671 Filed 3-24-09; 8:45 am]

BILLING CODE 9110-12-P